DEPARTMENT OF HEALTH AND HUMAN SERVICES

National Institutes of Health

National Heart, Lung, and Blood Institute; Notice of Meeting

Pursuant to section 10(a) of the Federal Advisory Committee Act, as amended, notice is hereby given of a meeting of the National Asthma Education Prevention Program Coordinating Committee.

The meeting will be open to the public at the WebEx link below. Individuals wishing to attend should refer to the information listed below on the Institute's/Center's home page for any additional information as the meeting approaches.

Name of Committee: National Asthma Education Prevention Program Coordinating Committee.

Date: May 13, 2020.

Time: 12:00 p.m. to 2:00 p.m.

Agenda: Welcome, Guidelines Update and Implementation, and Future Directions/Role of NAEPPCC.

Place: National Institutes of Health, Rockledge I, 6705 Rockledge Drive, Bethesda, MD 20892 (Virtual Meeting).

Telephone Access: 1-650-479-3208, Access Code: 625 290 665.

Virtual Access: WebEx Link: https://nih.webex.com/nih/j.php?MTID=m214553b59a41098134407ebe13ebcf87; Event number (access code): 299 510 569, Event password: Asthma; Event Call-in toll number (US/Canada): 1-650-479-3208.

Contact Person: Susan Shero, BSN, MS, Program Officer, CTRIS, Center for Translational Research and Implementation Science, National Heart, Lung and Blood Institute, National Institutes of Health, 6705 Rockledge Drive, Room 401-H2, Bethesda, MD 20892, 301-496-1051, susan.shero@nih.gov.

Any interested person may file written comments with the committee by forwarding the statement to the Contact Person listed on this notice. The statement should include the name, address, telephone number and when applicable, the business or professional affiliation of the interested person. Information is also available on the Institute's/Center's home page: https://www.nhlbi.nih.gov/advisory-and-peer-review-committees/national-asthma-education-and-prevention-program-coordinating, where an agenda and any additional information for the meeting will be posted when available. A summary of the draft Asthma Guidelines will be posted to the website prior to the meeting. Public disclosure of the actual draft Guidelines, at this point in the process, risks the distribution of content, which includes recommendations for medical care, causing potential confusion among those for whom the guidelines are intended to assist. This would likely significantly frustrate implementation of final Guidelines expected to be released later this year.

(Catalogue of Federal Domestic Assistance Program Nos. 93.233, National Center for Sleep Disorders Research; 93.837, Heart and Vascular Diseases Research; 93.838, Lung Diseases Research; 93.839, Blood Diseases and Resources Research, National Institutes of Health, HHS)

Dated: April 14, 2020.
Ronald J. Livingston, Jr.,
Program Analyst, Office of Federal Advisory Committee Policy.

[FR Doc. 2020-08280 Filed 4-17-20; 8:45 am]

BILLING CODE 4140-01-P